COMMODITY FUTURES TRADING COMMISSION

Agency Information Collection Activities: Notice of Intent To Extend Collection 3038-0069, Information Management Requirements for Derivatives Clearing Organizations

AGENCY: Commodity Futures Trading Commission.

ACTION: Notice.

SUMMARY: The Commodity Futures Trading Commission (“CFTC or Commission”) is announcing an opportunity for public comment on the proposed collection of certain information by the agency. Under the Paperwork Reduction Act (“PRA”), Federal agencies are required to publish notice in the Federal Register concerning each proposed collection of information, including each proposed extension or renewal of an existing collection of information, and to allow 60 days for public comment. This notice solicits comments on reporting and recordkeeping requirements relating to information management requirements for derivatives clearing organizations (“DCOs”).

DATES: Comments must be submitted on or before September 24, 2018.

ADDRESSES: You may submit comments, identified by OMB Control No. 3038-0069, by any of the following methods:

• The Agency's website, at http://comments.cftc.gov/. Follow the instructions for submitting comments through the website.

• Mail: Christopher Kirkpatrick, Secretary of the Commission, Commodity Futures Trading Commission, Three Lafayette Centre, 1155 21st Street NW, Washington, DC 20581.

• Hand Delivery/Courier: Same as Mail above.

Please submit your comments using only one method. All comments must be submitted in English, or if not, accompanied by an English translation. Comments will be posted as received to http://www.cftc.gov.

FOR FURTHER INFORMATION CONTACT: Eileen Chotiner, Division of Clearing and Risk, Commodity Futures Trading Commission, (202) 418-5467; email: echotiner@cftc.gov.

SUPPLEMENTARY INFORMATION: Under the PRA, 44 U.S.C. 3501 et seq., Federal agencies must obtain approval from the Office of Management and Budget (“OMB”) for each collection of information they conduct or sponsor. “Collection of Information” is defined in 44 U.S.C. 3502(3) and 5 CFR 1320.3 and includes agency requests or requirements that members of the public submit reports, keep records, or provide information to a third party. Section 3506(c)(2)(A) of the PRA, 44 U.S.C. 3506(c)(2)(A), requires Federal agencies to provide a 60-day notice in the Federal Register concerning each proposed collection of information, including each proposed extension of an existing collection of information, before submitting the collection to OMB for approval. To comply with this requirement, the Commission is publishing notice of the proposed extension of the collection of information listed below.

Title: Information Management Requirements for Derivatives Clearing Organizations (OMB Control No. 3038-0069). This is a request for extension of a currently approved information collection.

Abstract: Part 39 of the Commission's regulations establishes information management requirements for registered DCOs. The Commission will use the information in this collection to assess compliance of DCOs with requirements for DCOs prescribed in the Commodity Exchange Act and Commission regulations.

With respect to the collection of information, the CFTC invites comments on:

• Whether the proposed collection of information is necessary for the proper performance of the functions of the Commission, including whether the information will have a practical use;

• The accuracy of the Commission's estimate of the burden of the proposed collection of information, including the validity of the methodology and assumptions used;

• Ways to enhance the quality, usefulness, and clarity of the information to be collected; and

• Ways to minimize the burden of collection of information on those who are to respond, including through the use of appropriate automated electronic, mechanical, or other technological collection techniques or other forms of information technology; e.g., permitting electronic submission of responses.

You should submit only information that you wish to make available publicly. If you wish the Commission to consider information that you believe is exempt from disclosure under the Freedom of Information Act, a petition for confidential treatment of the exempt information may be submitted according to the procedures established in § 145.9 of the Commission's regulations.¹

¹ 17 CFR 145.9.

The Commission reserves the right, but shall have no obligation, to review, pre-screen, filter, redact, refuse or remove any or all of your submission from http://www.cftc.gov that it may deem to be inappropriate for publication, such as obscene language. All submissions that have been redacted or removed that contain comments on the merits of the information collection requirements will be retained in the public comment file and will be considered as required under the Administrative Procedure Act and other applicable laws, and may be accessible under the Freedom of Information Act.

² 16 respondents × 250 annual responses per respondent = 4,000 total responses, × 0.1 hours per response = 400 total annual burden hours.

Burden Statement

³ 16 respondents × 1 annual response per respondent = 16 total responses, × 2,606 hours per response = 41,696 total annual burden hours.

1. Collection 3038-0069—Daily Reporting Requirements for Derivatives Clearing Organizations
[Regulation 39.19]
Estimated number of respondents per year | Reports annually by each | Total annual responses | Estimated average number of hours per response | Estimated total annual burden hours
16 | 250 | 4,000 | 0.1 | ² 400

2. Collection 3038-0069—Annual Reporting Requirement for Derivatives Clearing Organizations
[Regulation 39.19]
Estimated number of respondents per year | Reports annually by each | Total annual responses | Estimated average number of hours per response | Estimated total annual burden hours
16 | 1 | 16 | 2,606 | ³ 41,696

3. Event-Specific Reporting Requirements for Derivatives Clearing Organizations
[Regulation 39.19]
Estimated number of respondents per year | Reports annually by each | Total annual responses | Estimated average number of hours per response | Estimated total annual burden hours
16 | 4 | 64 | 5.6 | ⁴ 358.4

4. Collection 3038-0069—Recordkeeping Requirements for Derivatives Clearing Organizations
Estimated number of respondents per year | Reports annually by each | Total annual responses | Estimated average number of hours per response | Estimated total annual burden hours
16 | 1 | 16 | 100 | 1,600

Respondents/affected entities: Derivatives clearing organizations (DCOs).

⁴ 16 respondents × 4 annual responses per respondent = 64 total responses, × 5.6 hours per response = 358.4 total annual burden hours.

Estimated annual number of respondents: 16.⁵

⁵ Includes 16 currently registered DCOs (an increase of 2 since the last extension).

Estimated hours per response: 10 hours.⁶

Annual responses by each respondent: 260.

Grand total annual burden hours: 44,054 hours (400 + 41,696 + 358.4 + 1,600).

⁶ Since burden hours vary widely within the collection (see above tables), this is the average of burden hours per response for the collection as a whole (aggregate of 2,661.7 hours per response/aggregate of 260 responses = 10.24 hours, rounded to 10).

Frequency of collection: Daily, annually, and on occasion.

There are no capital costs or operating and maintenance costs associated with this collection.

(Authority: 44 U.S.C. 3501 et seq.)

Dated: July 19, 2018.
Robert Sidman,
Deputy Secretary of the Commission.

[FR Doc. 2018-15800 Filed 7-23-18; 8:45 am]

BILLING CODE 6351-01-P